DEPARTMENT OF COMMERCE

National Oceanic and Atmospheric Administration

[I.D. 052102E]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Executive Committee; Ecosystems Planning Committee; Squid, Mackerel, and Butterfish Committee; and, Surfclam and Ocean Quahog Committee with Industry Advisors will hold a public meeting.

DATES: The meetings will be held on Tuesday, June 11, 2002 through Thursday, June 13, 2002. See SUPPLEMENTARY INFORMATION for specific dates and times.

ADDRESSES: This meeting will be held at Hilton Silver Spring, 8727 Colesville Road, Silver Spring, MD; telephone: 301-589-5200.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, June 11, the Executive Committee will meet from 10 a.m. until noon. The Ecosystems Planning Committee will meet from 1 p.m. to 3 p.m. From 3 p.m. to 5:30 p.m., there will be a Law Enforcement Information and Education Program regarding Homeland Defense and the integration and coordination of that program with other Law Enforcement Programs. On Wednesday, June 12, the Squid, Mackerel, and Butterfish Committee will meet from 8 a.m. to 10 a.m. The Surfclam and Ocean Quahog Committee, with its Industry Advisors, will meet from 10 a.m. until noon. The Council will meet from 1 p.m. to 5:30 p.m. On Thursday, June 13, the Council will meet from 8 a.m. until 4 p.m.

Agenda items for the committees and Council meeting are: the Ecosystem Planning Committee will receive a report on NMFS’ final rule regarding essential fish habitat, and receive an update on the status of the Council’s 2003 research set aside program; the Squid, Mackerel, and Butterfish Committee will set priorities for future fishery management plan (FMP) actions; the Surfclam and Ocean Quahog Committee, with Industry Advisors, will review staff recommendations for 2003 quotas and management measures for surfclams and ocean quahogs, and develop 2003 quota specification recommendations. The Council will: review the Surfclam and Ocean Quahog Committee’s recommendations for 2003 quotas and management measures for surfclams and ocean quahogs, and approve recommendations regarding 2003 quota specifications; approve management alternatives regarding Amendment 2 to the Monkfish FMP; approve Amendment 13 to the Summer Flounder, Scup, and Black Sea Bass FMP for Secretarial submission; receive and discuss organizational and committee reports including the New England Council's report regarding possible actions on herring, groundfish, monkfish, red crab, scallops, skates, and whiting; and, act on any continuing and/or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council’s intent to take final actions to address such emergencies.

Special Accommodations

This meeting is physically accessible to people with disabilities. Requests for sign language interpretation or other auxiliary aids should be directed to Joanna Davis at the Council (see ADDRESSES) at least 5 days prior to the meeting date.

Dated: May 22, 2002.
Richard W. Surdi,
Acting Director, Office of Sustainable Fisheries, National Marine Fisheries Service.

[FR Doc. 02-13260 Filed 5-24-02; 8:45 am]

BILLING CODE 3510-22-S